DEPARTMENT OF COMMERCE

National Oceanic and Atmospheric Administration

50 CFR Part 622

[I.D. 072806A]

RIN 0648-AS67

Fisheries of the Caribbean, Gulf of Mexico, and South Atlantic; Reef Fish Fishery of the Gulf of Mexico; Individual Fishing Quota Program for Gulf Commercial Red Snapper Fishery

AGENCY: National Marine Fisheries Service (NMFS), National Oceanic and Atmospheric Administration (NOAA), Commerce.

ACTION: Announcement of availability of fishery management plan amendment; request for comments.

SUMMARY: NMFS announces the availability of Amendment 26 to the Fishery Management Plan (FMP) for the Reef Fish Resource of the Gulf of Mexico (Amendment 26) prepared by the Gulf of Mexico Fishery Management Council (Council). Amendment 26 would establish an Individual Fishing Quota (IFQ) program for the Gulf of Mexico commercial red snapper fishery. The intended effect of Amendment 26 is to reduce overcapacity in the commercial red snapper fishery and to eliminate, to the extent possible, the problems associated with derby fishing, in order to assist the Council in achieving optimum yield (OY) from the fishery.

DATES: Written comments must be received no later than 5 p.m., eastern time, on October 2, 2006.

ADDRESSES: You may submit comments by any of the following methods:

• E-mail: 0648-AS67.NOA@noaa.gov. Include in the subject line the following document identifier: 0648-AS67-NOA.

• Federal e-Rulemaking Portal: http://www.regulations.gov. Follow the instructions for submitting comments.

• Mail: Phil Steele, Southeast Regional Office, NMFS, 263 13th Avenue South, St. Petersburg, FL 33701.

• Fax: 727-824-5308, Attention: Phil Steele.

Copies of Amendment 26, which includes a supplemental environmental impact statement (SEIS), a regulatory impact review (RIR), and an initial regulatory flexibility analysis (IRFA), may be obtained from the Gulf of Mexico Fishery Management Council, 2203 N. Lois Avenue, Suite 1100, Tampa, FL 33607; telephone: 813-348-1630; fax: 813-348-1711; e-mail: gulfcouncil@gulfcouncil.org. In addition, copies of the final SEIS, a revised RIR, and a revised IRFA, prepared by NMFS are also available from the Council at the address above. Copies of all of these documents may also be downloaded from the Council's Web site at www.gulfcouncil.org.

The final supplemental environmental impact statement (FSEIS) for this amendment includes discussion and analyses NMFS added to the environmental impact statement contained in the amendment the Council approved and submitted for Secretarial review. In the FSEIS, NMFS also included a revision of the IFRA originally integrated in the Council amendment. Additional text and analyses clarify the distinction between IFQ shareholders and IFQ allocation holders, and more clearly distinguish the roles and responsibilities of these two participant types.

FOR FURTHER INFORMATION CONTACT: Phil Steele, 727 824 5305; fax 727-824-5308; e-mail: phil.steele@noaa.gov.

SUPPLEMENTARY INFORMATION: The Council addressed overcapacity in the red snapper fishery in 1995 through Amendment 8 to the FMP. In this amendment, the Council examined several management alternatives including license limitation, IFQs, and more traditional management measures (i.e., open access), and determined an IFQ program had the most potential to address the immediate overcapitalization problems and achieve OY from the fishery. However, Amendment 8 was never implemented because of congressional action. Following the expiration of the congressional IFQ moratorium, NMFS conducted a referendum required by Section 407(c) of the Magnuson-Stevens Fishery Conservation and Management Act (Magnuson-Stevens Act) to determine whether commercial red snapper fishermen supported further consideration of an IFQ program. The Council began developing this amendment following a majority “yes” vote on the referendum. NMFS conducted the second referendum required by the Magnuson-Stevens Act to determine whether fishermen approved the IFQ amendment developed by the Council for submission to the Secretary of Commerce (Secretary). Following a majority “yes” vote in the second referendum, the Council at its March 2006 meeting voted to submit the IFQ amendment to the Secretary for review.

The main action in this amendment (Action 1) is to establish an IFQ program. The following actions (Actions 2-11) determine the structure of the program. These actions are: IFQ program duration; ownership caps and restrictions on IFQ share certificates; eligibility for initial IFQ allocation; initial apportionment of IFQ shares; establishment and structure of an appeals process; transfer eligibility requirements; use it or lose it clause for IFQ shares or allocations; adjustments in commercial quota; use of a vessel monitoring system; and a cost recovery plan.

A proposed rule that would implement the measures outlined in Amendment 26 has been received from the Council. In accordance with the Magnuson-Stevens Act, NMFS is evaluating the proposed rule to determine whether it is consistent with the FMPs, the Magnuson-Stevens Act, and other applicable law. If that determination is affirmative, NMFS will publish the proposed rule in the Federal Register for public review and comment.

Comments received by October 2, 2006, whether specifically directed to Amendment 26 or the proposed rule, will be considered by NMFS in its decision to approve, disapprove, or partially approve the amendment. Comments received after that date will not be considered by NMFS in this decision. All comments received by NMFS on the amendment or the proposed rule during their respective comment periods will be addressed in the final rule.

Authority: 16 U.S.C. 1801 et seq.

Dated: July 28, 2006.
James P. Burgess,
Acting Director, Office of Sustainable Fisheries, National Marine Fisheries Service.

[FR Doc. 06-6645 Filed 7-28-06; 2:19 pm]

BILLING CODE 3510-22-S